DEPARTMENT OF COMMERCE

National Oceanic and Atmospheric Administration

[RTID 0648-XB480]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow commercial fishing vessels to fish outside of fishery regulations in support of research conducted by the applicant. Regulations under the Magnuson-Stevens Fishery Conservation and Management Act require publication of this notification to provide interested parties the opportunity to comment on applications for proposed EFPs.

DATES: Comments must be received on or before November 17, 2021.

ADDRESSES: You may submit written comments by any of the following methods:

• Email: nmfs.gar.efp@noaa.gov. Include in the subject line “CFF Seasonal Scallop Survey EFP.”

FOR FURTHER INFORMATION CONTACT: Louis Forristall, Marine Resource Management Specialist, louis.forristall@noaa.gov, (978) 281-9321.

SUPPLEMENTARY INFORMATION: The applicant submitted a complete application for an EFP to conduct commercial fishing activities that the regulations would otherwise restrict. This EFP would exempt the participating vessels from the following Federal regulations:

Table 1—Requested Exemptions
Citation | Regulation | Need for exemption
50 CFR 648.53(b) | Days-at-Sea (DAS) | Exempt participating vessels from DAS while testing experimental gears.
§ 648.51(c) | Crew Size Restrictions | Allow for researchers to be present on vessel.
§ 648.11(g) | Observer Program Requirements | Research activities are not consistent with normal fishing operations.
§ 648.51(b)(4)(iii) | Dredge Obstructions | Allow for testing of gear modifications—only additional depressor plate or large disc cookie sweep.
§ 648.60(e) | Nantucket Lightship South-Deep Scallop Rotational Area | Allow for experimental fishing activities in closed rotational management area.
§ 648.60(g) | Nantucket Lightship North Scallop Rotational Area | See above.
§ 648.60(h) | Nantucket Lightship Triangle Scallop Rotational Area | See above.
§ 648.60(b) | Closed Area II Scallop Rotational Area | See above.
§ 648.60(b)(2) | Closed Area II Closure Area restrictions | See above.
§ 648.60(d) | Closed Area II East Scallop Rotational Area restrictions | See above.
§ 648.81(b) | Closed Area II scallop gear restrictions | See above.
§ 648.81(a)(5)(i) | Closed Area II Closure area restrictions | See above.
§ 648.59(a)(1)-(3), (b)(2), (b)(4) | Access area program requirements | See above.
§ 648.14(i)(1)(vi)(B) | Scallop closed area requirement for scallop rotational areas | See above.
Part 648 Subparts B and D through O | Fish size and Possession limits | Onboard sampling activities.

Table 2—Project Summary
Project title | Developing an effective foot sweep to reduce flounder bycatch in scallop dredges using computational fluid dynamics and field testing with paired dredges.
Applicant | Coonamessett Farm Foundation (CFF).
Project objectives | Test the capability of a dredge modification to reduce flounder bycatch.
Application date | August 5, 2021.
Project period | December 1, 2021—April 20, 2022.
Project location | Closed Area II & Nantucket Lightship Access Areas, Open Area of Great South Channel, Stellwagen Bank, and Long Island.
Number of vessels | 2.
Number of trips | 2.
Trip duration (days) | 5 (3 fishing, 2 transit).
Total number of days | 10.
Gear type(s) | Paired Turtle Deflector Dredges.
Number of tows or sets | 60.
Duration of tows or sets | 30 minutes.

Project Narrative

Coonamessett Farm Foundation (CFF) applied for an EFP on August 5, 2021, to conduct a field trial of scallop dredge cutting bar modifications. This EFP would allow CFF to conduct 60 tows over 10 days at sea on commercial scallop vessels. The gear modifications used in the field trials would either be: (1) A rigid steel plate ahead of the depressor plate, parallel to the cutting bar or (2) a large disc cookie sweep. Computational fluid dynamics testing and expert opinion would be used to assess variations of these modifications and the selected modifications would be tested in field trials.

Tow locations would be based on flatfish bycatch hotspots reported by CFF's industry partners. Participating vessels would use two, 15-foot turtle deflector dredges towed side-by-side. The dredges would have 10-inch twine tops and 4-inch rings. One dredge would feature the selected gear modification. A tow speed of 4.5 to 5.5 knots and tow time of 30 minutes would be targeted throughout the field trials.

CFF researchers would accompany vessels at all times and would direct sampling activities. Scallop catch would be sorted into baskets and weighed. A one-basket sub-sample from each dredge would be measured to the nearest millimeter and shucked to evaluate meat yield. Fish catch would be weighed and measured. Other bycatch species would be counted and weighed. With the exception of catch sacrificed for biological sampling, catch would be returned to the water as quickly as possible after sampling.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 28, 2021.
Jennifer M. Wallace,
Acting Director, Office of Sustainable Fisheries, National Marine Fisheries Service.

[FR Doc. 2021-23884 Filed 11-1-21; 8:45 am]

BILLING CODE 3510-22-P